DEPARTMENT OF COMMERCE

Foreign-Trade Zones Board

[Docket 45-2000]

Foreign-Trade Zone 73—BWI Airport, Maryland, Expansion of Manufacturing Authority—Subzone 73A, Rotorex Company, Inc. (Air Cleaners); Walkersville, MD

An application has been submitted to the Foreign-Trade Zones Board (the Board) by the Maryland Department of Transportation, grantee of FTZ 73, requesting authority on behalf of the Rotorex Company, Inc. (Rotorex) and Trion, Inc. (Trion), to expand the scope of manufacturing activity conducted under zone procedures within Subzone 73A at the Rotorex facility in Walkersville, Maryland. The application was submitted pursuant to the provisions of the Foreign-Trade Zones Act, as amended (19 U.S.C. 81a-81u), and the regulations of the Board (15 CFR part 400). It was formally filed on July 27, 2000.

Subzone 73A was approved by the Board in 1995 (Board Order 767, 60 FR 47149, 9/11/95). The Rotorex plant (210,000 sq. ft. on 18 acres) is located at 8301-B Retreat Road in Walkersville (Frederick County), Maryland, about 55 miles northwest of Washington, DC. Approval was originally granted for the manufacture of rolling piston rotary pumps and compressors for R-22 unitary heat pumps and air conditioners. The applicant is now seeking authority to manufacture residential air cleaners at the facility (HTS 8421.39, duty free). Components and materials sourced from abroad (representing about 28% of all parts consumed in manufacturing) include: motors and power supplies (HTS 8501.10 and 8501.40, duty rate ranges from 1.5% to 4.0%).

FTZ procedures would exempt Rotorex and Trion from Customs duty payments on the foreign components used in export production. Some 10 percent of the plant's shipments are exported. On its domestic sales, Rotorex and Trion would be able to choose the duty rates during Customs entry procedures that apply to finished air cleaners (duty-free) for the foreign inputs noted above. The request indicates that the savings from FTZ procedures would help improve the plant's international competitiveness.

In accordance with the Board's regulations, a member of the FTZ staff has been appointed examiner to investigate the application and report to the Board.

Public comment on the application is invited from interested parties. Submissions (original and 3 copies) shall be addressed to the Board's Executive Secretary at the address below. The closing period for their receipt is October 2, 2000. Rebuttal comments in response to material submitted during the foregoing period may be submitted during the subsequent 15-day period (to October 17, 2000).

A copy of the application and the accompanying exhibits will be available for public inspection at each of the following locations:

U.S. Department of Commerce, Export Assistance Center, World Trade Center, 401 East Pratt Street, Suite 2432, Baltimore, MD 21202

Office of the Executive Secretary, Foreign-Trade Zones Board, Room 4008, U.S. Department of Commerce, 14th and Pennsylvania Avenue, NW., Washington, DC 20230

Dated: July 28, 2000.
Dennis Puccinelli,
Executive Secretary.

[FR Doc. 00-19692 Filed 8-2-00; 8:45 am]

BILLING CODE 3510-DS-P